DEPARTMENT OF DEFENSE

Department of the Army; Corps of Engineers

Intent To Prepare an Environmental Impact Statement for the Pee Dee Electrical Generating Station in Florence County, SC

AGENCY: Department of the Army, U.S. Army Corps of Engineers.

ACTION: Notice of Intent.

SUMMARY: The U.S. Army Corps of Engineers, Charleston District intends to prepare an Environmental Impact Statement (EIS) to assess the potential social, economic and environmental effects of the proposed construction of a coal-fired electrical generating station with associated facilities, a rail line extension and transmission corridor by the South Carolina Public Service Authority (Santee Cooper), in the vicinity of the Bostic Landing on the Great Pee Dee River, in Florence County, South Carolina. The EIS will assess potential effects of a range of alternatives, including an alternative proposed in the Federal permit application.

DATES: General Public Scoping Meetings: Two Public Scoping meetings are being planned. The first will take place on Tuesday, September 25, 2007 from 6 p.m. to 9 p.m. at Coastal Carolina University located in Conway, South Carolina in the Recital Hall of the Edwards College of Humanities and Fine Arts. The second Public Scoping meeting will be held on Thursday, September 27, 2007 from 6 p.m. to 9 p.m. in the Commons Area and Auditorium of South Florence High School located at 3200 South Irby Street in Florence, South Carolina.

Federal and State Agency Scoping Meeting: A Federal and State Agency Scoping Meeting is planned to be held on Thursday, September 20, 2007 in Charleston, South Carolina.

FOR FURTHER INFORMATION CONTACT: For further information and/or questions about the proposed project and EIS, please contact Dr. Richard Darden, Project Manager, by telephone: 843-329-8043 or toll free 1-866-329-8187, or by mail: CESAC-RE-P, 69A Hagood Avenue, Charleston, SC 29403. For inquiries from the media, please contact the Corps, Charleston District Public Affairs Officer (PAO), Ms. Connie Gillette by telephone: (843) 329-8123.

SUPPLEMENTARY INFORMATION: An application for a Department of the Army permit was submitted by Santee Cooper pursuant to section 10 of the Rivers and Harbors Act of 1899 (33 U.S.C. 403) and section 404 of the Clean Water Act (33 U.S.C. 1344) on December 11, 2006 and was advertised in a local public notice, P/N # SAC 2006-3574-SIB, on December 22, 2006. The public notice is available on Charleston District's public Web site at http://www.sac.usace.army.mil/?action=publicnotices.pn2006. Santee Cooper agreed that based on the potential social, economic, and environmental effects associated with the construction of the proposed Pee Dee Electrical Generating Station in Florence County, an EIS should be prepared by the Charleston District, Corps of Engineers.

1. Description of Proposed Project. The project proposed by the South Carolina Public Service Authority (Santee Cooper) is to construct a coal-fired electrical generating station with associated facilities on the Great Pee Dee River, in Florence County, SC. The proposed facility will involve the installation of an intake and discharge structure in the Great Pee Dee River in the vicinity of the Bostic Landing and this Notice of Intent will refer to the proposed project as the Pee Dee Station. The Pee Dee Station development will include the generating station structure and facilities that include intake and discharge structures, solid waste landfills, ash ponds, onsite-rail, rail switchyard, transmission lines, cooling towers, and roads. In total, approximately 93.75 acres of jurisdictional and non-jurisdictional wetlands may be impacted to construct the proposed Pee Dee Station. Construction of the Pee Dee Station may require filling an estimated 9.45 acres of jurisdictional wetlands and 5.10 acres of fill in non-jurisdictional wetlands, 8.14 acres of mechanized land clearing in jurisdictional wetlands, 2.32 acres mechanized land clearing in non-jurisdictional wetlands, and 0.67 acres of excavation in waters of the United States. Construction/upgrade of the rail line extension may require filling of 4.49 acres of jurisdictional wetlands and 4.90 acres of mechanized clearing. Construction of the transmission line may involve converting an estimated 58.68 acres of jurisdictional wetlands from forested wetlands to scrub shrub wetlands.

2. Alternatives. The following alternatives have been identified as reasonable alternatives that will be fully evaluated in the EIS: No Action; the modification of existing Santee Cooper facilities to meet the purpose and need of and for the proposed project; alternative locations within the jurisdictional authority of Santee Cooper where the proposed project might be developed; alternative facility layouts for the proposed Pee Dee Station; alternatives for energy generation, and mitigation measures. However, this list is not exclusive and additional alternatives may be considered for inclusion as reasonable alternatives.

3. Scoping and Public Involvement Process. Scoping meetings will be conducted to gather information on the scope of the project and the alternatives to be addressed in detail in the EIS. There will be three (3) sessions: One (1) Specifically for the Federal and State agencies with regulatory responsibilities and two (2) for the general public that are being planned. Additional public and agency involvement will be gained through the implementation of a public outreach plan and agency coordination team.

4. Significant Issues. Issues associated with the proposed project to be given significant analysis in the EIS are likely to include, but may not be limited to, the potential impacts of the proposed Pee Dee Station on: Air quality, wetland quality, conservation, economics, aesthetics, general environmental concerns, wetlands, historic properties, fish and wildlife values, flood hazards, flood plain values, land use, navigation, shore erosion and accretion, recreation, water supply and conservation, energy needs, public health and safety, hazardous wastes and materials, food and fiber production, mineral needs, considerations of property ownership, environmental justice and, in general, the needs and welfare of the people.

5. Cooperating Agencies. S.C. Department of Health and Environmental Control, S.C. Department of Archives and History, U.S. Fish and Wildlife Service, National Oceanic and Atmospheric Administration, National Marine Fisheries Service, and U.S. Environmental Protection Agency will be asked to participate as cooperating agencies.

6. Additional Review and Consultation. Additional review and consultation which will be incorporated into the preparation of this EIS will include, but shall not be limited to: Section 401 of Clean Water Act, the Magnuson-Stevens Fishery Conservation and Management Act, the National Environmental Policy Act, the National Historic Preservation Act; the Endangered Species Act, and the Clean Air Act.

7. Availability of the Draft Environmental Impact Statement. The Draft Environmental Impact Statement (DEIS) is anticipated to be available late in 2008. A Public Hearing will be conducted following the release of the DEIS.

Lieutenant Colonel J. Richard Jordan, III,
Commander, U.S. Army Corps of Engineers, Charleston District.

[FR Doc. E7-17685 Filed 9-6-07; 8:45 am]

BILLING CODE 3710-CH-P